DEPARTMENT OF HEALTH AND HUMAN SERVICES

[Document Identifier: OS-0990-0308; 30-day notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: The Effect of Reducing Falls on Acute and Long-Term Care Expenses OMB No. 0990-0308—Extension—Assistant Secretary Planning Evaluation (ASPE).

Abstract: ASPE is conducting a demonstration and evaluation of a multi-factorial fall prevention program to measure its impact on health outcomes for the elderly as well as acute and long-term care use and cost. The study is being conducted among a sample of individuals with private long-term care insurance who are age 75 and over using a multi-tiered random experimental research design to evaluate the effectiveness of the proposed fall prevention intervention program. The project will provide information to advance Departmental goals of reducing injury and improving the use of preventive services to positively impact Medicare use and spending. The project began in spring 2008 and is expected to be completed in spring 2013.

Estimated Annualized Burden Table
Form name | Type of respondent | Number of respondents | Number responses per respondent | Average burden per response (in hours) | Total burden hours
Initial Telephone Screen | Experimental Group | 240 | 1 | 20/60 | 80
In-person interview |  | 240 | 1 | 80/60 | 320
Jump start phone call |  | 240 | 1 | 30/60 | 120
Quarterly phone calls |  | 240 | 4 | 10/60 | 160
Final Telephone Screen |  | 177 | 1 | 20/60 | 59
Final In-person interview |  | 177 | 1 | 80/60 | 236
Initial Telephone Screen | Active Control Group | 240 | 1 | 20/60 | 80
Quarterly phone calls |  | 240 | 4 | 10/60 | 160
Final Telephone Screen |  | 177 | 1 | 20/60 | 59
Total Burden Hours |  |  |  |  | 1,274

Seleda Perryman,
Office of the Secretary, Paperwork Reduction Act Reports Clearance Officer.

[FR Doc. 2010-8716 Filed 4-15-10; 8:45 am]

BILLING CODE 4150-39-P